RAILROAD RETIREMENT BOARD

Sunshine Act Meeting

Notice is hereby given that the Railroad Retirement Board will hold a meeting on November 23, 2004, 9 a.m., at the Board's meeting room on the 8th floor of its headquarters building, 844 North Rush Street, Chicago, Illinois 60611. The agenda for this meeting follows:

(1) Status Report on the Field Service Task Force.

(2) Employer Status Determination, Decision on Reconsideration—American Railroads Corporation.

The entire meeting will be open to the public. The person to contact for more information is Beatrice Ezerski, Secretary to the Board, Phone No. (312) 751-4920.

Dated: November 12, 2004.
Beatrice Ezerski,
Secretary to the Board.

[FR Doc. 04-25590 Filed 11-15-04; 10:31 am]

BILLING CODE 7905-01-M